COMMITTEE FOR PURCHASE FROM PEOPLE WHO ARE BLIND OR SEVERELY DISABLED

Procurement List: Proposed Additions and Deletions

AGENCY: Committee for Purchase From People Who Are Blind or Severely Disabled.

ACTION: Proposed additions to and deletions from the Procurement List.

SUMMARY: The Committee is proposing to add services to the Procurement List that will be furnished by nonprofit agencies employing persons who are blind or have other severe disabilities and to delete products previously furnished by such agency.

Comments must be received on or before: 10/4/2010.

ADDRESSES: Committee for Purchase From People Who Are Blind or Severely Disabled, Jefferson Plaza 2, Suite 10800, 1421 Jefferson Davis Highway, Arlington, Virginia 22202-3259.

FOR FURTHER INFORMATION CONTACT: For further information or to submit comments contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List to be provided by the nonprofit agencies listed:

Services

Service Type/Location: Grounds Maintenance Service, Great Lakes Naval Training Center, Great Lakes, IL.

NPA: Challenge Unlimited, Inc., Alton, IL.

Contracting Activity: Dept of the Navy, Naval FAC Engineering CMD Midwest, Great Lakes, IL.

Service Type/Location: Property Management, Horace M. Albright Training Center and Residence Hall, Grand Canyon National Park, AZ.

NPA: Trace, Inc., Boise, ID.

Contracting Activity: National Park Service, WASO-WCP-Denver Contracting and Procurement, Lakewood, CO.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Specimen Container

NSN: 6550-00-NIB-0009—1/4 turn cap, sterile individually wrapped.

NSN: 6550-00-NIB-0010—1/4 turn cap, sterile.

NSN: 6550-00-NIB-0011—1/4 turn cap, non-sterile.

NSN: 6550-00-NIB-0013—full turn cap, sterile.

NSN: 6550-00-NIB-0019—120 ml, sterile, 300/case.

NSN: 6550-00-NIB-0020—120 ml, non-sterile, 300/case.

NSN: 6550-00-NIB-0021—120 ml, sterile, individually wrapped, 100/case.

NPA: Alphapointe Association for the Blind, Kansas City, MO.

Contracting Activity: Department of Veterans Affairs, NAC, Hines, IL.

Barry S. Lineback,
Director, Business Operations.

[FR Doc. 2010-22055 Filed 9-2-10; 8:45 am]

BILLING CODE 6353-01-P